INTERNATIONAL TRADE COMMISSION

[Investigation Nos. 701-TA-453 (Final) and 731-TA-1136-1137 (Final)]

Sodium Nitrite From China and Germany

Determinations

On the basis of the record ¹ developed in the subject investigations, the United States International Trade Commission (Commission) determines, pursuant to sections 705(b) and 735(b) of the Tariff Act of 1930 (19 U.S.C. 1671d(b), 1673d(b)) (the Act), that an industry in the United States is materially injured by reason of imports from China and Germany of sodium nitrite, provided for in subheading 2834.10.10 of the Harmonized Tariff Schedule of the United States, that have been found by the Department of Commerce (Commerce) to be sold in the United States at less than fair value (LTFV) and by imports from China of sodium nitrite found by Commerce to be subsidized by the Government of China.

¹ The record is defined in sec. 207.2(f) of the Commission's Rules of Practice and Procedure (19 CFR 207.2(f)).

Background

The Commission instituted these investigations effective November 8, 2007, following receipt of a petition filed with the Commission and Commerce by General Chemical LLC of Parsippany, NJ. The final phase of the investigations was scheduled by the Commission following notification of preliminary determinations by Commerce that imports of sodium nitrite from China were being subsidized within the meaning of section 703(b) of the Act (19 U.S.C. 1671b(b)) and that imports of sodium nitrite from China and Germany were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of May 5, 2008 (73 FR 24610). The hearing was held in Washington, DC, on July 2, 2008, and all persons who requested the opportunity were permitted to appear in person or by counsel.

The Commission transmitted its determinations in these investigations to the Secretary of Commerce on August 20, 2008. The views of the Commission are contained in USITC Publication 4029 (August 2008), Sodium Nitrite from China and Germany, Investigation Nos. 701-TA-453 and 731-TA-1136-1137 (Final).

By order of the Commission.
Issued: August 20, 2008.
Marilyn R. Abbott,
Secretary to the Commission.

[FR Doc. E8-19764 Filed 8-25-08; 8:45 am]

BILLING CODE 7020-02-P